DEPARTMENT OF THE INTERIOR

National Park Service

Flight 93 National Memorial Advisory Commission

ACTION: Meeting notice.

SUMMARY: This notice announces a December 3, 2004, “interim” meeting of the Flight 93 Advisory Commission.

DATES: The public meeting will be held on December 3, 2004, from 10 to 11 a.m., eastern standard time.

Location: The meeting will be held via conference call for all out-of-town Commissioners and public participants. To call in, the call in number is 866-556-6304; then enter the pass code number 487846#. For those who are able to attend in person, the Flight 93 National Memorial office will be open at 109 West Main Street, Newberry Building, Somerset, PA 15501, from where the conference call will be initiated.

Agenda: The agenda includes:

(1) Opening of the meeting.

(2) Roll call and identification of people in the Somerset Office and on the conference call line.

(3) Report by the Design Oversight Committee of the Flight 93 Memorial Task Force, with recommendations on a Stage 1 jury for the design competition for a permanent memorial.

FOR FURTHER INFORMATION CONTACT: Joanne M. Hanley, Superintendent, Flight 93 National Memorial, 109 West Main Street, Somerset, PA 15501, telephone (814) 443-4457.

SUPPLEMENTARY INFORMATION: The meeting will be open to the public. Any member of the public may file with the Commission a written statement concerning agenda items. The statement should be addressed to the Flight 93 Advisory Commission, 109 West Main Street, Somerset, PA 15501.

This notice is being published less than 15 days prior to the meeting date because of the urgent need to complete time-sensitive work carried over from the Commission's previous meeting. In particular, the Commission must complete its consideration of Stage 1 jury recommendations by the Design Oversight Committee.

Dated: November 12, 2004.
Bernard Fagan,
Deputy Chief, National Park Service Office of Policy.

[FR Doc. 04-26002 Filed 11-23-04; 8:45 am]

BILLING CODE 4312-52-M